COMMITTEE FOR PURCHASE FROM PEOPLE WHO ARE BLIND OR SEVERELY DISABLED

Procurement List Proposed Addition; Correction

In the document appearing on page 9436, FR Doc. 02-4918, in the issue of March 1, 2002, in the third column the Committee published a notice of proposed addition to the Procurement List of, among other things, Janitorial/Custodial, Ronald Reagan Building, International Trade Center, Washington, DC. This notice is amended to include “At the Federal Tenant Spaces Only”, which was omitted from original notice.

Sheryl D. Kennerly,
Director, Information Management.

[FR Doc. 02-5612 Filed 3-7-02; 8:45 am]

BILLING CODE 6353-01-P